DEPARTMENT OF HEALTH AND HUMAN SERVICES

Centers for Disease Control and Prevention

[30 Day-12-0234]

Agency Forms Undergoing Paperwork Reduction Act Review

The Centers for Disease Control and Prevention (CDC) publishes a list of information collection requests under review by the Office of Management and Budget (OMB) in compliance with the Paperwork Reduction Act (44 U.S.C. chapter 35). To request a copy of these requests, call the CDC Reports Clearance Officer at (404) 639-5960 or send an email to omb@cdc.gov. Send written comments to CDC Desk Officer, Office of Management and Budget, Washington, DC or by fax to (202) 395-5806. Written comments should be received within 30 days of this notice.

Proposed Project

National Ambulatory Medical Care Survey (NAMCS) (OMB No. 0920-0234 exp. 03/31/2013)—Revision—National Center for Health Statistics (NCHS), Centers for Disease Control and Prevention (CDC).

Background and Brief Description

Section 306 of the Public Health Service (PHS) Act (42 U.S.C. 242k), as amended, authorizes that the Secretary of Health and Human Services (DHHS), acting through NCHS, shall collect statistics on the utilization of health care provided by nonfederal office-based physicians in the United States.

This revision is to notify the public of significant changes proposed for NAMCS for the 2012-2014 survey period. On July 13, 2010, a notice was published in the Federal Register (pages 39947-39948) which notified the public that the President's fiscal year 2011 budget requested Congress to consider a budget increase. It also mentioned that budget increases might be forthcoming from other sources. Funds have now been received from the Patient Protection and Affordable Care Act to significantly increase the survey sample size to produce state estimates for 34 states. The 2012 NAMCS will include an additional sample of over 15,600 physicians/providers. A three-year clearance is requested.

NAMCS was conducted annually from 1973 to 1981, again in 1985, and resumed as an annual survey in 1989. The purpose of NAMCS, a voluntary survey, is to meet the needs and demands for statistical information about the provision of ambulatory medical care services in the United States. Ambulatory services are rendered in a wide variety of settings, including physician offices and hospital outpatient and emergency departments. The NAMCS target universe consists of all office visits made by ambulatory patients to non-Federal office-based physicians (excluding those in the specialties of anesthesiology, radiology, and pathology) who are engaged in direct patient care. In 2006, physicians and mid-level providers (i.e., nurse practitioners, physician assistants, and nurse midwives) practicing in community health centers (CHCs) were added to the NAMCS sample, and these data will continue to be collected. NAMCS provides a range of baseline data on the characteristics of the users and providers of ambulatory medical care. Data collected include the patients' demographic characteristics, reason(s) for visit, provider diagnoses, diagnostic services, medications, and visit disposition.

Additionally, NAMCS data collection will transition to computerized data collection, so that induction interviews and patient record information will be entered into laptops that meet the government's security requirements. This effort will greatly reduce paperwork and will increase efficiency in data processing. Data collection activities, including questions asked, will be similar to current procedures.

NAMCS will also add questions concerning the physician's use of complementary alternative medicine, conduct an asthma management supplement as well as a lookback module based on successful pretests in 2011.

Specifically, the information on the physician's utilization of complementary and alternative medicine (CAM) will be collected through additional questions added to the Physician Induction Interview. Adding these questions will allow the National Institutes of Health/National Center for Complementary and Alternative Medicine (NCCAM) to estimate the frequency of referrals and use of CAM by conventional providers, which has never been collected before on a large-scale national survey. Because the majority of providers who use CAM do so in conjunction with conventional medicine, it is important to find out the extent to which conventional providers are integrating CAM into their treatment plans.

The asthma supplement will collect information on the clinical decisions providers make when confronted with a patient suffering from asthma. The lookback module will collect additional information from the 12 month period prior to a sampled visit, which will identify risk factors and clinical management of patients with conditions that put them at high risk for heart disease and stroke.

A supplemental mail survey on the adoption and use of electronic health records (EHRs) in physician offices was added to NAMCS in 2008, and will continue. These data were requested by the Office of the National Coordinator for Health Information Technology (ONC), Department of Health and Human Services, to measure progress toward goals for EHR adoption. The mail survey will collect information on characteristics of physician practices and the capabilities of EHRs used in those practices. Additional information on physician experiences with EHRs will continue to be collected through the Physician Workflow Supplement (PWS), which was added in 2011. The PWS collects information on experiences physicians are having with EHRs in terms of benefits and barriers, costs, attitudes, and impact of EHRs on their clinical workflow.

In 2012, NAMCS plans on conducting a pretest for assessing the feasibility of developing nationally-representative estimates of payments for care in physician offices through the collection of Current Procedural Terminology (CPT) codes.

Users of NAMCS data include, but are not limited to, Congressional offices, Federal agencies, State and local governments, schools of public health, colleges and universities, private industry, nonprofit foundations, professional associations, clinicians, researchers, administrators, and health planners. NCHS is seeking OMB approval to extend this survey for an additional three years.

There is no cost to respondents other than their time to participate. The total estimated annualized burden hours are 59,998.

Estimated Annualized Burden Hours
Type of form | Type of respondent | Form name | Number of respondents | Number of responses per respondent | Hours per response
Core NAMCS Forms | Office-based physicians/CHC providers | Physician Induction Interview (NAMCS-1) | 16,237 | 1 | 35/60
| Community Health Center Directors | Community Health Center Induction Interview (NAMCS-201) | 2,008 | 1 | 20/60
| Office-based physicians/CHC providers | Patient Record form (NAMCS-30) | 3,248 | 30 | 14/60
| Office/CHC staff | Pulling, re-filing Patient Record form (NAMCS-30) | 12,989 | 30 | 1/60
| Office-based physicians/CHC providers | Lookback module | 5,683 | 15 | 10/60
| Office-based physicians/CHC providers | Asthma Supplement | 10,554 | 1 | 20/60
National Electronic Health Records Survey (NEHRS) | Office-based physicians | NEHRS form | 4,344 | 1 | 20/60
Physician Workflow Survey (PWS) | Office-based physicians | PWS form | 2,645 | 1 | 30/60
Pretest NAMCS Forms | Office-based physicians | Physician Induction Interview (NAMCS-1) | 17 | 1 | 35/60
| Office-based physicians | Patient Record form (NAMCS-30) | 17 | 30 | 14/60

Dated: October 28, 2011.
Daniel Holcomb,
Reports Clearance Officer, Centers for Disease Control and Prevention.

[FR Doc. 2011-28580 Filed 11-3-11; 8:45 am]

BILLING CODE 4163-18-P